DEPARTMENT OF STATE

[Public Notice: 11371]

Designation of Islamic State of Iraq and Syria—Mozambique as a Specially Designated Global Terrorist

Acting under the authority of and in accordance with sections 1(a)(ii)(A) of Executive Order 13224 of September 23, 2001, as amended by Executive Order 13268 of July 2, 2002, Executive Order 13284 of January 23, 2003, and Executive Order 13886 of September 9, 2019, I hereby determine that the person known as Islamic State of Iraq and Syria—Mozambique, also known as ISIS-Mozambique, also known as Islamic State—Mozambique, also known as Ansar al-Sunna, also known as Helpers of Tradition, also known as Ahl al-Sunna wa al-Jamaa, also known as Adherents to the Traditions and the Community, also known as al-Shabaab in Mozambique, also known as Islamic State Central Africa Province, also known as Wilayah Central Africa, also known as Ansaar Kalimat Allah, also known as Supporters of the Word of Allah, is a foreign person that has committed and poses a significant risk of committing acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Authority: E.O. 13224, 66 FR 49079, 3 CFR, 2001 Comp., p. 786.

Dated: March 1, 2021.
Antony J. Blinken,
Secretary of State.

[FR Doc. 2021-04920 Filed 3-10-21; 8:45 am]

BILLING CODE 4710-AD-P